CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning its revised Martin Luther King, Jr. Day of Service Application Instructions using the Corporation's Electronic Application System, eGrants. Completion of the Martin Luther King, Jr. Day of Service Application Instructions is required for funding considerations.

Copies of the information collection request can be obtained by contacting the office listed in the addresses section of this notice.

DATES: Written comments must be submitted to the individual and office listed in the ADDRESSES section by July 18, 2011.

ADDRESSES: You may submit comments, identified by the title of the information collection activity, by any of the following methods:

(1) By mail sent to: Corporation for National and Community Service, Georgia State Office; Attention Ms. Rochelle Barry, State Program Director, Suite 1600; 401 West Peachtree Street, NW., Atlanta, GA 30308.

(2) By hand delivery or by courier to the mail address given in paragraph (1) above, between 9 a.m. and 4 p.m. Monday through Friday, except Federal holidays.

(3) By fax to: (404) 331-2898, Attention Ms. Rochelle Barry, State Program Director.

(4) Electronically through the Corporation's e-mail address system: mlkgrants@cns.gov or http://www.regulations.gov.

FOR FURTHER INFORMATION CONTACT: Rochelle Barry, (404) 965-2102, or by e-mail at mlkgrants@cns.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Description

The purpose of these Martin Luther King, Jr. Day of Service Grants is to mobilize more Americans to observe the Martin Luther King, Jr. Federal Holiday as a day of service in communities and to bring people together around the common focus of service to others. The Corporation will award these funds to eligible applicants who will in turn subgrant to eligible local organizations or fund separate events to plan and carry out service activities.

Background

The Martin Luther King, Jr. Day of Service Grant application is completed by applicant organizations interested in supporting an MLK Day of Service Program. The application is completed electronically by using the Corporation's Web-based system, eGrants.

Current Action

The Corporation seeks to create renewal application instructions specifically for the Martin Luther King, Jr. Day of Service grants. When finalized, the application will include additional instructions to clarify narrative and budget sections; will contain an updated list of “Service Categories” used by applicants to identify the types of needs the national service participants will meet; and will contain current references used in the grants management system.

Type of Review: Renewal.

Agency: Corporation for National and Community Service.

Title: Martin Luther King, Jr. Day of Service Application Instructions.

OMB Number: 3045-0110.

Affected Public: Eligible applicants to the Corporation for National and Community Service for funding of Martin Luther King, Jr. Day of Service Grants.

Total Respondents: 80.

Frequency: Annual.

Average Time per Response: Ten (10) hours.

Estimated Total Burden Hours: 800 hours.

Total Burden Cost (capital/startup): None.

Total Burden Cost (operating/maintenance): None.

Comments submitted in response to this notice will be summarized and/or included in the request for Office of Management and Budget approval of the information collection request; they will also become a matter of public record.

Dated: May 13, 2011.
Robert Velasco, II,
Acting Chief of Program Operations.

[FR Doc. 2011-12265 Filed 5-18-11; 8:45 am]

BILLING CODE 6050-$$-P